DEPARTMENT OF DEFENSE

GENERAL SERVICES ADMINISTRATION

NATIONAL AERONAUTICS AND SPACE ADMINISTRATION

[OMB Control No. 9000-0082; Docket No. 2019-0003; Sequence No. 2]

Submission for OMB Review; Economic Purchase Quantity—Supplies

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve a revision and extension of a previously approved information collection requirement concerning economic purchase quantity—supplies.

DATES: Submit comments on or before August 21, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0082, Economic Purchase Quantity—Supplies.

Instructions: All items submitted must cite Information Collection 9000-0082, Economic Purchase Quantity—Supplies. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Mr. Michael O. Jackson, Procurement Analyst, Office of Governmentwide Acquisition Policy, GSA, 202-208-4949, or email at michaelo.jackson@gsa.gov.

SUPPLEMENTARY INFORMATION:

A. OMB Number, Title, and Any Associated Form(s)

9000-0082, Economic Purchase Quantity—Supplies.

B. Needs and Uses

The provision at 52.207-4, Economic Purchase Quantity—Supplies, invites offerors to state an opinion on whether the quantity of supplies on which bids, proposals, or quotes are requested in solicitations is economically advantageous to the Government. Each offeror who believes that acquisitions in different quantities would be more advantageous is invited to (1) recommend an economic purchase quantity, showing a recommended unit and total price, and (2) identify the different quantity points where significant price breaks occur. This information is required by Public Law 98-577 and Public Law 98-525.

C. Annual Reporting Burden

Respondents: 3,000.

Total Annual Responses: 75,000.

Total Burden Hours: 75,000.

Affected Public: Business or other for-profit entities.

Respondent's Obligation: Voluntary.

Type of Request: Extension of a currently approved collection.

Reporting Frequency: On occasion.

D. Public Comment

A 60 day notice was published in the Federal Register at 84 FR 10828 on March 22, 2019. No comments were received.

Obtaining Copies: Requesters may obtain a copy of the information collection documents from the General Services Administration, Regulatory Secretariat Division (MVCB), 1800 F Street NW, Washington, DC 20405, telephone 202-501-4755. Please cite OMB Control No. 9000-0082, Economic Purchase Quantity—Supplies, in all correspondence.

Dated: July 16, 2019.
Janet Fry,
Director, Federal Acquisition Policy Division, Office of Governmentwide Acquisition Policy, Office of Acquisition Policy, Office of Governmentwide Policy.

[FR Doc. 2019-15452 Filed 7-19-19; 8:45 am]

BILLING CODE 6820-EP-P